DEPARTMENT OF THE INTERIOR

Bureau of Ocean Energy Management

[Docket No. BOEM-2024-0022]

Pacific Wind Lease Sale 2 for Commercial Leasing for Wind Power Development on the Oregon Outer Continental Shelf—Proposed Sale Notice

AGENCY: Bureau of Ocean Energy Management, Interior.

ACTION: Proposed sale notice; request for comments.

SUMMARY: The Bureau of Ocean Energy Management (BOEM) proposes to hold Pacific Lease Sale 2 and offer one or more lease areas (Lease Areas) for commercial wind power development on the U.S. Outer Continental Shelf (OCS). The Lease Areas are located in the Brookings and Coos Bay wind energy areas (WEAs) offshore the State of Oregon. This proposed sale notice (PSN) contains information pertaining to the areas available for leasing, certain lease provisions and conditions, auction details, criteria for evaluating competing bids, and procedures for lease award, appeals, and lease execution. BOEM proposes a multiple factor bidding format using a simultaneous clock auction and will use new auction software for the lease sale, resulting in changes to its previous auction rules. Any lease resulting from this sale does not constitute approval for any offshore wind energy facilities. Lessees must first submit project-specific plans to BOEM and obtain BOEM's approval before they may start any construction of an OCS wind energy facility. BOEM will make such plans available for environmental, technical, and public reviews before deciding whether the proposed development should be authorized.

DATES: BOEM must receive your comments no later than July 1, 2024.

For prospective bidders who want to participate in this lease sale, unless you have already received confirmation from BOEM that you are qualified to participate in the Oregon auction, BOEM must receive your qualification materials no later than July 1, 2024. Prior to the auction, BOEM must confirm your qualification to bid in the auction.

ADDRESSES: You may send comments in any of the following ways:

• Electronically: Visit https://www.regulations.gov. In the box titled “Search for dockets and documents on agency actions” enter “BOEM-2024-0022” and click “Search.” Follow the instructions to submit comments.

• Mail or delivery service: Enclose comment in an envelope labeled “Comments on Oregon Wind Lease Sale PSN” and send to: Jean Thurston-Keller, Bureau of Ocean Energy Management, Office of Strategic Resources, 760 Paseo Camarillo, Suite 102 (CM102), Camarillo, California 93010.

For prospective bidders who want to participate in this lease sale: Enclose your qualification materials in an envelope labeled “Qualification Materials for Oregon Wind Energy Lease Sale” and send to Bureau of Ocean Energy Management, Office of Strategic Resources, 760 Paseo Camarillo, Suite 102 (CM102), Camarillo, California 93010 or electronically to renewableenergypocs@boem.gov.

For more information about submitting comments, see sections XX, “Public Participation,” and XXI, “Protection of Privileged and Confidential Information,” in the SUPPLEMENTARY INFORMATION section below.

FOR FURTHER INFORMATION CONTACT: Jean Thurston-Keller, Bureau of Ocean Energy Management, jean.thurston-keller@boem.gov or (805) 384-6303.

SUPPLEMENTARY INFORMATION:

I. Background

(1) Call for Information and Nominations: On April 29, 2022, BOEM published the “Call for Information and Nominations-Commercial Leasing for Wind Power Development on the Outer Continental Shelf offshore Oregon” (Call). The Call consisted of two areas identified as the Brookings and Coos Bay Call Areas. BOEM received 278 comments from Tribal nations; the general public; Federal, State, and local agencies; the fishing industry; industry groups; developers; non-governmental organizations; universities; and other stakeholders. Comments can be viewed at https://www.regulations.gov/document/BOEM-2022-0009-0001/comment. Four developers nominated areas for a commercial wind energy lease within the Call Areas.

(2) Area Identification: After the close of the Call comment period on June 28, 2022, BOEM initiated the process for identifying possible leasing areas (Area ID) by reviewing the input received on the Call. BOEM used the modified Area ID process described in a note to stakeholders, available at: https://www.boem.gov/newsroom/notes-stakeholders/boem-enhances-its-processes-identify-future-offshore-wind-energy-areas. BOEM and the National Oceanic and Atmospheric Administration's (NOAA) National Centers for Coastal Ocean Science (NCCOS) team then used an ocean planning modeling tool to identify the two draft WEAs on the OCS offshore Oregon. The modeling tool, data inputs, and methodology are outlined in the “NCCOS Draft Report: A Wind Energy Siting Analysis for the Oregon Call Areas,” which can be found at https://www.boem.gov/sites/default/files/documents/renewable-energy/state-activities/Oregon_WEA_Draft_Report_NCCOS.pdf.

On August 15, 2023, BOEM announced a 60-day public comment period on the two draft WEAs offshore Oregon, covering approximately 219,568 acres. This comment period was later extended an additional 15 days for a total 75-day public comment period.

BOEM considered the following non-exclusive information sources when identifying the draft WEAs: comments and nominations received on the Call; input from the Oregon Intergovernmental Renewable Energy Task Force; results of the “Data Gathering and Engagement Summary Report: Oregon Offshore Wind Planning”; input from Tribes, Oregon State agencies, and Federal agencies; comments from stakeholders and ocean users, including the maritime community, offshore wind developers, and the commercial and recreational fishing industry; State renewable energy goals; information on domestic and global offshore wind markets and technological trends; and the data and information found in OROWindMap at: https://offshorewind.westcoastoceans.org/visualize/#x=-124.50&y=40.50&z=5&logo=true&controls=true&basemap=ocean&tab=data&legends=false&layers=true.

After the close of the draft WEA comment period on October 31, 2023, BOEM reviewed the input received from all parties mentioned above and finalized the Area ID memorandum. BOEM announced the final WEAs on February 13, 2024, by designating two final WEAs within the Call areas. The first WEA (Brookings) is 133,792 acres and located approximately 18 miles from shore. The second WEA (Coos Bay) is 61,203 acres and located approximately 32 miles from shore. Both final WEAs combined would support approximately 2.4 gigawatts of wind energy capacity if fully developed. The Oregon Area ID documentation can be found at https://www.boem.gov/renewable-energy/state-activities/oregon.

(3) Environmental Reviews: On February 14, 2024, BOEM published a notice of intent to prepare an environmental assessment (EA). The EA will consider potential environmental consequences of the anticipated site characterization (e.g., biological, archaeological, geological, and geophysical surveys and core samples) and assessment activities (e.g., installation of meteorological buoys) after issuing wind energy leases in the WEAs. In addition to the preparation of the draft EA, BOEM has initiated other consultations under the Endangered Species Act, the Magnuson-Stevens Fishery Conservation and Management Act, and the Coastal Zone Management Act. The EA and associated consultations will inform BOEM's decision whether to proceed with the final sale notice (FSN). BOEM will solicit comments on the draft EA before it is finalized. BOEM will conduct additional environmental reviews upon receipt of a lessee's construction and operations plan (COP) if the proposed leases reach that stage of development.

II. Areas Proposed for Leasing

BOEM proposes two areas for leasing: the Brookings Lease Area, OCS-P 0567, and the Coos Bay Lease Area, OCS-P 0566.

Lease area name | Lease area ID | Acres
Brookings | OCS-P 0567 | 133,792
Coos Bay | OCS-P 0566 | 61,203
Total |  | 194,995

Descriptions of the proposed Lease Areas can be found in addendum A of the proposed leases, which can be found on BOEM's website at https://www.boem.gov/renewable-energy/state-activities/oregon.

(1) Map of the Area Proposed for Leasing: A map of the Lease Areas, spatial data files, and a list of latitude/longitude coordinates in the WGS84 datum can be found on BOEM's website at: https://www.boem.gov/renewable-energy/state-activities/oregon.

(2) Potential Future Restrictions to Ensure Navigational Safety: Potential bidders are advised that portions of the Lease Areas may not be available for future development (i.e., installation of wind energy facilities) because of navigational safety concerns. BOEM may require additional mitigation measures at the COP stage when the lessee's site-specific navigational safety risk assessment is available to inform BOEM's decision-making.

(3) Future Restrictions to Protect Sensitive Seafloor Habitats: Potential bidders are advised that portions of the Lease Areas may not be available for future development (i.e., installation of wind energy facilities) because of sensitive seafloor habitats. Based on comments received during development of the WEAs from Tribes, NOAA's National Marine Fisheries Service, Oregon Department of Fish and Wildlife, and other entities, there are areas of known or expected sensitive seafloor habitats within the WEAs, particularly within the Brookings WEA. The occurrence of these habitats was shown as part of the NCCOS modeling and discussed in the Area Identification memorandum. BOEM will require further data gathering and evaluation of seafloor habitats and expects to place restrictions on disturbance of sensitive seafloor habitats during COP review. The Brookings WEA was developed with the intention of providing sufficient area to accommodate the protection of sensitive seafloor habitat within the lease area.

III. Participation in the Proposed Lease Sale

(1) Bidder Participation: Entities that have been notified by BOEM that their qualification is pending or that they are qualified to participate in the upcoming Oregon auction through their response to the Call, or by separate submission of qualification materials, are not required to take any additional action to affirm their interest. Those entities are listed below:

Company name | Company No.
Avangrid Renewables, LLC | 15019
BlueFloat Energy Oregon, LLC | 15160
OW North America Ventures LLC | 15133
U.S. Mainstream Renewable Power, Inc | 15089

All other entities wishing to participate in this proposed Oregon auction must submit the required qualification materials to BOEM by the end of the 60-day comment period for this PSN.

(2) Affiliated Entities: On the Bidder's Financial Form (BFF), discussed below, eligible bidders must list any other eligible bidders with whom they are affiliated. For the purpose of identifying affiliated entities, a bidding entity is any individual, firm, corporation, association, partnership, consortium, or joint venture (when established as a separate entity) that is participating in the same auction. BOEM considers bidding entities to be affiliated when:

i. They own or have common ownership of more than 50 percent of the voting securities, or instruments of ownership or other forms of ownership, of another bidding entity. Ownership of less than 10 percent of a bidding entity constitutes a presumption of non-control that BOEM may rebut.

ii. They own or have common ownership of between 10 percent up to and including 50 percent of the voting securities or instruments of ownership, or other forms of ownership, of another bidding entity, and BOEM determines that there is control upon consideration of factors including the following:

(1) The extent to which there are common officers or directors.

(2) With respect to the voting securities, or instruments of ownership or other forms of ownership: the percentage of ownership or common ownership; the relative percentage of ownership or common ownership compared to the percentage(s) of ownership by other bidding entities, if a bidding entity is the greatest single owner; or if there is an opposing voting bloc of greater ownership.

(3) Shared ownership, operation, or day-to-day management of a lease, grant, or facility as those terms are defined in BOEM's regulations at 30 CFR 585.113.

iii. They are both direct or indirect subsidiaries of the same parent company.

iv. If, with respect to any lease(s) offered in this auction, they have entered into an agreement prior to the auction regarding the shared ownership, operation, or day-to-day management of such lease.

v. Other evidence indicates the existence of power to exercise control, or that multiple bidders collectively have the power to exercise control over another bidding entity or entities.

Affiliated entities are not permitted to compete against each other in the auction. Where two or more affiliated entities have qualified to bid in the auction, the affiliated entities must decide prior to the auction which one (if any) will participate in the auction. If two or more affiliated entities attempt to participate in the auction, BOEM will disqualify those bidders from the auction.

BOEM solicits comments from stakeholders on the above criteria for “affiliated entities” and will consider this feedback to potentially update its definition of affiliated entities in the FSN.

IV. Questions for Stakeholders

Stakeholders are encouraged to comment on any matters related to this proposed lease sale that are of interest or concern. In addition, BOEM has identified the following issues as particularly important, and we encourage commenters to address these issues specifically:

(1) Existing uses and how they may be affected by the development of the proposed Lease Areas: BOEM asks commenters to submit technical and scientific data in support of their comments.

(2) Limits on the Number of Lease Areas per Bidder: BOEM is proposing to allow each qualified entity to bid for one Lease Area at a time and ultimately acquire only one Lease Area.

V. Proposed Lease Sale Deadlines and Milestones

This section describes the major deadlines and milestones in the auction process from publication of this PSN to execution of a lease issued pursuant to this sale.

(1) The PSN Comment Period:

i. Submit Comments: The public is invited to submit comments during this 60-day period, which will expire on July 1, 2024. All comments received or postmarked during the comment period will be made available to the public and considered by BOEM prior to publication of the FSN.

ii. Public Auction Seminar: BOEM will host a public seminar to discuss the lease sale process and the auction format. The time and place of the seminar will be announced by BOEM and published on the BOEM website at https://www.boem.gov/renewable-energy/state-activities/oregon. No registration or RSVP is required to attend.

iii. Submit Qualification Materials: For prospective bidders who want to participate in this lease sale: All qualification materials must be received by BOEM by July 1, 2024. This requirement includes the submission of materials sufficient to establish a company's legal, technical, and financial qualifications pursuant to 30 CFR 585.106-585.107. BOEM's qualification guidelines available at https://www.boem.gov/Renewable-Energy-Qualification-Guidelines/ provide guidance on the types of information you should submit to BOEM. BOEM will inform you if you are qualified to participate in the auction.

iv. Confidential information. If you wish to protect the confidentiality of your comments or qualification materials, clearly mark the relevant sections and request that BOEM treat them as confidential. Please label privileged or confidential information with the caption “Contains Confidential Information” and consider submitting such information as a separate attachment. Treatment of confidential information is addressed in section XXI entitled “Protection of Privileged or Confidential Information.” Information that is not labeled as privileged or confidential will be regarded by BOEM as suitable for public release.

(2) End of PSN Comment Period to FSN Publication:

i. Review Comments: BOEM will review all comments submitted in response to the PSN during the comment period.

ii. Finalize Qualifications Reviews: Prior to the publication of the FSN, BOEM will complete any outstanding reviews of bidder qualification materials submitted during the PSN comment period. The final list of eligible bidders will be published in the FSN.

iii. Prepare the FSN: BOEM will prepare the FSN by updating information contained in the PSN where necessary.

iv. Publish FSN: BOEM will publish the FSN in the Federal Register at least 30-calendar days before the date of the sale.

(3) FSN Waiting Period: During the period between FSN publication and the lease auction, qualified bidders will be required to take several steps to remain eligible to participate in the auction.

i. Bidder's Financial Form: Each bidder must submit a BFF to BOEM to participate in the auction. The BFF must include each bidder's conceptual strategy for each bidding credit for which that bidder wishes to be considered. BOEM must receive each bidder's BFF no later than the date listed in the FSN. BOEM could consider extensions to this deadline only if BOEM determines that the failure to timely submit a BFF was caused by events beyond the bidder's control. The proposed BFF can be downloaded at: https://www.boem.gov/renewable-energy/state-activities/oregon.

Once BOEM has processed a bidder's BFF, the bidder will be allowed to log into https://www.pay.gov and submit a bid deposit. For purposes of this auction, BOEM will not consider BFFs submitted by bidders for previous lease sales. An original signed BFF may be mailed to BOEM's Pacific Region, Office of Strategic Resources, for certification. A signed copy of the form may be submitted in PDF format to renewableenergypocs@boem.gov. A faxed copy will not be accepted. Your BFF submission should be accompanied with a transmittal letter on company letterhead. The BFF is required to be executed by an authorized representative listed in the qualification package on file with BOEM in accordance with 18 U.S.C. 1001 (fraud and false statements). Additional information regarding the BFF may be found below in section IX, “Bidder's Financial Form.”

ii. Bid Deposit: Each qualified bidder must submit a bid deposit of $2,000,000 in order to bid for one (1) Lease Area. Further information about bid deposits can be found below in section X, “Bid Deposit”.

(4) Notification of Eligibility for Bidding Credits: Prior to the mock auction, BOEM will notify each bidder of its determination of eligibility for bidding credits for the auction.

(5) Mock Auction: BOEM will hold a mock auction that is open only to qualified bidders who have met the requirements and deadlines for auction participation, including submission of the bid deposit. The mock auction is intended to give bidders an opportunity to clarify auction rules, test the functionality of the auction software, and identify any potential issues that may arise during the auction. Final details of the mock auction will be provided in the FSN.

(6) The Auction: BOEM, through its contractor, will hold an auction as described in the FSN. The auction will take place no sooner than 30-calendar days following the publication of the FSN in the Federal Register. The estimated timeframes described in this PSN assume the auction will take place approximately 30-calendar days after the publication of the FSN. Final dates will be included in the FSN. BOEM will announce the provisional winners of the lease sale after the auction ends.

(7) From the Auction to Lease Execution:

i. Refund Non-Winners: Once the provisional winners have been announced, BOEM will provide the non-winners with a written explanation of why they did not win and will return their bid deposits.

ii. Department of Justice (DOJ) Review: DOJ will have up to 30-calendar days to conduct an antitrust review of the auction, pursuant to 43 U.S.C. 1337(c).

iii. Delivery of the Lease: BOEM will send three lease copies to each provisional winner, with instructions on how to execute the lease. Once the lease has been fully executed, a provisional winner becomes an auction winner. The first year's rent is due 45-calendar days after the auction winners receive the lease copies for execution.

iv. Return the Lease: Within 10-business days of receiving the lease copies, the auction winners must post financial assurance, pay any outstanding balance of their winning bids (i.e., winning bid minus applicable bid deposit and any applicable non-monetary bidding credit), and sign and return the three executed lease copies. The winners may request extensions and BOEM may grant such extensions if BOEM determines that the delay was caused by events beyond the requesting winner's control, pursuant to 30 CFR 585.224(e).

v. Execution of Lease: Once BOEM has received the signed lease copies and verified that all other required materials have been received, BOEM will make a final determination regarding its issuance of the leases and will execute the leases, if appropriate.

VI. Withdrawal of Blocks

BOEM reserves the right to withdraw all or portions of the Lease Areas prior to executing the leases with the winning bidders.

VII. Lease Terms and Conditions

Along with this PSN, BOEM is making available the proposed terms, conditions, and stipulations for the commercial leases that would be offered through this proposed sale. BOEM reserves the right to require compliance with additional terms and conditions associated with the approval of a site assessment plan (SAP) and COP. The proposed lease is on BOEM's website at: https://www.boem.gov/renewable-energy/state-activities/oregon. Each lease will include the following attachments:

a. Addendum A (“Description of Leased Area and Lease Activities”);

b. Addendum B (“Lease Term and Financial Schedule”);

c. Addendum C (“Lease-Specific Terms, Conditions, and Stipulations”); and

d. Addendum D (“Project Easement(s)”).

VIII. Lease Financial Terms and Conditions

This section provides an overview of the required annual payments and financial assurance under the lease. Please see the proposed lease for more detailed information, including any changes from past practices.

(1) Rent: Pursuant to 30 CFR 585.224(b) and 585.503, the first year's rent payment of $3 per acre is due within 45-calendar days after the lessee receives the unexecuted lease copies from BOEM. Thereafter, annual rent payments are due on the anniversary of the effective date of the lease (the “Lease Anniversary”). Once commercial operations under the lease begin, BOEM will charge rent only for the portions of the Lease Area remaining undeveloped (i.e., non-generating acreage). For example, for the 61,203 acres of Lease Area OCS-P 0566 (Coos Bay), the rent payment would be $183,609 per year until commercial operations begin.

If the lessee submits an application for relinquishment of a portion of its leased area within the first 45-calendar days after receiving the lease copies from BOEM and BOEM approves that application, no rent payment would be due on the relinquished portion of the Lease Area. Later relinquishments of any portion of the Lease Area would reduce the lessee's rent payments starting in the year following BOEM's approval of the relinquishment.

A lease issued under this part confers on the lessee the right to one or more project easements, without further competition, for the purpose of installing gathering, transmission, and distribution cables, pipelines, and appurtenances on the OCS as necessary for the full enjoyment of the lease. A lessee must apply for the project easement as part of the COP or SAP, as provided under subpart F of 30 CFR part 585. The lessee also must pay rent for any project easement associated with the lease. Rent commences on the date that BOEM approves the COP that describes the project easement (or any modification of such COP that affects the easement acreage), as outlined in 30 CFR 585.507. If the COP revision results in increased easement acreage, additional rent would be required at the time the COP revision is approved. Annual rent for a project easement is the greater of $5 per acre per year or $450 per year.

(2) Operating Fee: For purposes of calculating the initial annual operating fee payment under 30 CFR 585.506, BOEM applies an operating fee rate to a proxy for the wholesale market value of the electricity expected to be generated from the project during its first 12 months of operations. This initial payment will be prorated to reflect the period between the commencement of commercial operations and the Lease Anniversary. The initial annual operating fee payment will be due within 90-calendar days of the commencement of commercial operations. Thereafter, subsequent annual operating fee payments will be due on or before the Lease Anniversary.

The subsequent annual operating fee payments will be calculated by multiplying the operating fee rate by the imputed wholesale market value of the projected annual electric power production. For the purposes of this calculation, the imputed market value will be the product of the project's annual nameplate capacity, the total number of hours in a year (8,760), the capacity factor, and the annual average price of electricity derived from a regional wholesale power price index. For example, the annual operating fee for a 976-megawatt (MW) wind facility operating at a 40 percent capacity (i.e., capacity factor of 0.4) with a regional wholesale power price of $40 per megawatt hour (MWh) and an operating fee rate of 0.02 would be calculated as follows:

i. Operating Fee Rate: The operating fee rate is the share of the imputed wholesale market value of the projected annual electric power production due to the Office of Natural Resources Revenue (ONRR) as an annual operating fee. For the Lease Areas, BOEM proposes to set the fee rate at 0.02 (2 percent) for the entire life of commercial operations.

ii. Nameplate Capacity: Nameplate capacity is the maximum rated electric output, expressed in MW, which the turbines of the wind facility under commercial operations can produce at their rated wind speed as designated by the turbine's manufacturer.

iii. Capacity Factor: BOEM proposes to set the capacity factor at 0.4 (i.e., 40 percent) for the year in which the commercial operations begin and for the first 6 years of commercial operations on the lease. At the end of the sixth year, BOEM may adjust the capacity factor to reflect the performance over the previous 5 years based upon the actual metered electricity generation at the delivery point to the electrical grid. BOEM may make similar adjustments to the capacity factor once every 5 years thereafter.

iv. Wholesale Power Price Index: Under 30 CFR 585.506(c)(2)(i), the wholesale power price, expressed in dollars per MWh, is determined at the time each annual operating fee payment is due. For the leases offered in this sale the following table provides the proposed price data. A similar price dataset may also be used and may be posted by BOEM at https://www.boem.gov for reference.

Lease area name | Wholesale power price
Brookings, OCS-P 0567 | Mid-Columbia Hub.
Coos Bay, OCS-P 0566 | Mid-Columbia Hub.

(3) Financial Assurance: Within 10-business days after receiving the unexecuted lease copies and pursuant to 30 CFR 585.515-585.516, the provisional winners will be required to provide an initial lease-specific bond or other BOEM-approved financial assurance instrument in the amount of $100,000. The provisional winners may meet financial assurance requirements by posting a surety bond or other financial assurance instrument as detailed in 30 CFR 585.526-585.529. BOEM encourages the provisional winners to discuss financial assurance requirements with BOEM as soon as possible after the auction has concluded.

BOEM will base the amount of all SAP, COP, and decommissioning financial assurance on cost estimates for meeting all accrued lease obligations at the respective stages of development. The required amount of supplemental and decommissioning financial assurance will be determined on a case-by-case basis.

The financial terms described above can be found in addendum “B” of the lease, which is available at: https://www.boem.gov/renewable-energy/state-activities/oregon.

IX. Bidder's Financial Form

Each bidder must submit to BOEM the information listed in the BFF referenced in this PSN. A copy of the proposed form is available at: https://www.boem.gov/renewable-energy/state-activities/oregon. BOEM recommends that each bidder designate an email address in its BFF that the bidder will use to create an account in https://www.pay.gov (if it has not already done so). BOEM will not consider previously submitted BFFs for previous lease sales to satisfy the requirements of this auction. BOEM must receive each BFF, including any conceptual strategies, by the deadline set in the FSN. BOEM may consider BFFs, including any conceptual strategies, that are submitted after the deadline set in the FSN if BOEM determines that the failure to timely submit the BFF was caused by events beyond the bidder's control. The BFF is required to be executed by an authorized representative listed in the bidder's qualification package on file with BOEM.

X. Bid Deposit

Each qualified bidder must submit a bid deposit no later than the date listed in the FSN. Typically, the deadline is approximately 30-calendar days after the publication of the FSN. BOEM may consider extensions to this deadline only if BOEM determines that the failure to timely submit the bid deposit was caused by events beyond the bidder's control.

Following the auction, bid deposits will be applied against the winning bid and other obligations owed to BOEM. If a bid deposit exceeds that bidder's total financial obligation, BOEM will refund the balance of the bid deposit to the bidder. BOEM will refund bid deposits to the unsuccessful bidders once BOEM has announced the provisional winners.

If BOEM offers a lease to a provisional winner and that bidder fails to timely return the signed lease, establish financial assurance, or pay the balance of its bid, BOEM will retain the bidder's $2,000,000 bid deposit for the Lease Area. In such a circumstance, BOEM reserves the right to offer a lease to the next highest bidder as determined by BOEM.

XI. Minimum Bid

The minimum bid is the lowest dollar amount per acre that BOEM will accept as a winning bid and is the amount at which BOEM will start the bidding in the auction. BOEM proposes a minimum bid of $50.00 per acre for this lease sale.

XII. Auction Procedures

(1) Multiple-Factor Bidding Auction: As authorized under 30 CFR 585.220(a)(4) and 585.221(a)(6), BOEM proposes to use a multiple-factor auction format for this lease sale. Under BOEM's proposal, the bidding system for this lease sale will be a multiple-factor combination of monetary and non-monetary factors. The bid made by a particular bidder in each round will represent the sum of the monetary factor (cash bid) and the value of any non-monetary factors in the form of bidding credits. BOEM proposes to start the auction using the minimum bid price for the Lease Area and to increase prices incrementally until no more than one bidder remains bidding on each Lease Area in the auction.

For this sale, BOEM is calculating bidding credits as a percentage of the whole bid, which is a change from the method used in recent sales, where bidding credits were calculated as a percentage of the cash portion of the bid. The intended purpose of this change is to simplify the bidding credit calculation.

BOEM is proposing to grant bidding credits to bidders that commit to any or all of the following:

i. Supporting workforce training programs for the floating offshore wind industry or supporting the development of a domestic supply chain for the floating offshore wind industry, or a combination of both;

ii. Establishing a Lease Area Use Community Benefit Agreement (Lease Area Use CBA) with one or more communities, stakeholder groups, or Tribal entities whose use of the geographic space of the Lease Area, or whose use of resources harvested from that geographic space, is expected to be impacted by the lessee's potential offshore wind development; or

iii. Establishing a General Community Benefit Agreement (General CBA) with one or more communities, Tribes, or stakeholder groups that are expected to be affected by the potential impacts on the marine, coastal, and/or human environment (such as impacts on visual or cultural resources) from activities resulting from lease development that are not otherwise addressed by the Lease Area Use CBA.

These bidding credits are intended to:

i. Enhance, through training, the floating offshore wind workforce and/or enhance the establishment of a domestic supply chain for floating offshore wind manufacturing, assembly, or services, both of which will contribute to the expeditious and orderly development of floating offshore wind resources on the OCS;

ii. Support the expeditious and orderly development of OCS resources by mitigating potential direct impacts from proposed projects and encouraging the investment in infrastructure germane to the floating offshore wind industry;

iii. Mitigate any potential impacts to a community or stakeholder group from renewable energy activity or structures on the Lease Area, and particularly to assist fishing and related industries to manage transitions, gear changes, or other similar impacts which may arise from the development of the Lease Area; and

iv. Mitigate any potential impacts to a community or stakeholder group from floating offshore wind energy development, and particularly to assist local communities to manage transitions, changes, or other similar impacts which may arise from the development of the Lease Area.

(2) Changes to Auction Rules: BOEM will be employing new auction software for sales held in 2024. The auction format remains an ascending clock auction with multiple-factor bidding. The new software makes five primary changes to the ascending clock auction rules.

i. If a bidder decides to bid on a different Lease Area in a subsequent round of the auction, it may submit a bid to reduce demand for the Lease Area it bid on in the previous round and, simultaneously, submit a bid to increase demand for another Lease Area. This allows a bidder the option to switch to another Lease Area if the price of the first Lease Area exceeds the specified bid price.

ii. Provisional winners will no longer be determined using a two-step process. The auction rules are implemented in such a way that, when the auction concludes, the bidder who remains on a Lease Area after the final round becomes its provisional winner. There will be no additional processing step.

iii. The auction will use a “second price” rule. A given Lease Area will be won by the bidder that submitted the highest bid amount for the Lease Area, but the winning bidder will pay the highest bid amount at which there was competition (i.e., the “second price”).

iv. For sales in which bidders are allowed to bid for and potentially acquire two or more Lease Areas, any bid for two Lease Areas will be treated as independent bids for those Lease Areas, rather than as a package bid.

v. Each bidder's bidding credit will be expressed directly as a percentage of the final price for the lease.

All potential bidders should review the complete Auction Procedures for Offshore Wind Lease Sales (Version 1) located at: https://www.boem.gov/renewable-energy/lease-and-grant-information.

(3) The Auction: Using an online bidding system to host the auction, BOEM will start the bidding for the Lease Areas as described below.

Lease area name | Lease area ID | Acres | Minimum bid
Brookings | OCS-P 0567 | 133,792 | $6,689,600
Coos Bay | OCS-P 0566 | 61,203 | 3,060,150

The auction will be conducted in a series of rounds. Before each round, the auction system will announce the prices for each Lease Area offered in the auction. In Round 1, there is a single price for each Lease Area equal to the minimum bid price (also known as the `opening price' or `clock price of Round 1'). Each bidder can bid, at the opening price, for one Lease Area. After Round 1, the bidder's processed demand is one for the Lease Area for which the bidder bid in Round 1.¹

¹ Bidders specify their demand for a lease area with either a 0 or 1 in the auction system. A demand of 1 indicates the lease area that they are bidding on. Processed demand is the demand, either 0 or 1, of a bidder for a lease area following the processing of the bids for the round.

Starting in Round 2, each Lease Area is assigned a range of prices for the round. The start-of-round price is the lowest price in the range, and the clock price is the highest price in the range. A bidder still eligible to bid after the previous round can either continue bidding at the new round's clock price for the same Lease Area for which the bidder's processed demand is one or submit a bid to reduce demand for that Lease Area at any price in the range for that round. A bid to reduce demand at some price indicates that the bidder is not willing to acquire that Lease Area at a price exceeding the specified bid price. A bidder that bids to reduce demand for a Lease Area could bid to increase demand for the other Lease Area in the same round.

If an eligible bidder does not place a bid during the round for the Lease Area for which the bidder's processed demand is one, the auction system will consider this a request to reduce demand for that Lease Area at the start-of-round price. That bidder can nonetheless win that Lease Area if it is the last remaining bidder for that Lease Area.

After each round, the auction system processes the bids and determines each bidder's processed demand for each Lease Area and the posted prices for the Lease Areas. The bidder's eligibility for the next round will equal the number of Lease Areas for which the bidder had a processed demand of one. If, after any round, a bidder's processed demand is zero for both Lease Areas, the bidder's eligibility drops to zero and the bidder can no longer bid in the auction. The posted price is the price determined for each Lease Area after processing of all bids for a round. If only one bidder remains on a Lease Area, the posted price reflects the “second price” (i.e., the highest price at which there was competition for the Lease Area).²

² The Auction Procedures for Offshore Wind Lease Sales provides details on how bids are prioritized and processed.

If, after the bids for the round have been processed, there is no Lease Area with excess demand (i.e., no lease areas have more than one bidder), the auction will end. When this occurs, each bidder with a processed demand of one for a Lease Area will become the provisional winner for that Lease Area. Otherwise, the auction will continue with a new round in which the start-of-round price for each Lease Area equals the posted price of the previous round.

The increment by which the clock price exceeds the start-of-round price will be determined based on several factors, including, but not necessarily limited to, the expected time needed to conduct the auction and the number of rounds that have already occurred. BOEM reserves the right to increase or decrease the increment as it deems appropriate.

The provisional winners of the auction will pay the final posted price (less any applicable bidding credit), or risk forfeiting their bid deposits. A provisional winner will be disqualified if it is subsequently found to have violated auction rules or BOEM regulations, or otherwise engaged in conduct detrimental to the integrity of the competitive auction.

If a bidder submits a bid that BOEM determines to be a provisionally winning bid, the bidder must sign the applicable lease documents, post financial assurance, and submit the outstanding balance of its winning bid (i.e., winning monetary bid minus the applicable bid deposit and the value of bidding credits, as applicable) within 10-business days of receiving the lease copies, pursuant to 30 CFR 585.224. BOEM reserves the right to not issue the lease to the provisionally winning bidder if that bidder fails to: timely execute three copies of the lease and return them to BOEM, timely post adequate financial assurance, timely pay the balance of its winning bid, or otherwise comply with applicable regulations or the terms of the FSN. In any of these cases, the bidder will forfeit its bid deposit and BOEM reserves the right to offer a lease to the next highest eligible bidder as determined by BOEM.

BOEM will publish the names of the provisional winners of the Lease Areas and the associated prices shortly after the conclusion of the sale. Full bid results, including round-by-round results of the entire sale, will be published on BOEM's website after a review of the results and announcement of the provisional winners.

Additional Information Regarding the Auction Format:

i. Authorized Individuals and Bidder Authentication: An entity that is eligible to participate in the auction will identify on its BFF up to three individuals who will be authorized to bid on behalf of the company, including their names, business telephone numbers, and email addresses. All individuals will log into the auction system using Login.gov. Prior to the auction, each individual listed on the BFF form must obtain a Fast Identity Online (FIDO) compliant security key,³ and must register this security key on Login.gov using the same email address that was listed in the BFF. The Login.gov registration, together with the FIDO-compliant security key, will enable the individual to log into the auction system. BOEM will provide information on this process on its website.

³ FIDO keys are produced by many manufacturers, such as Yubico and Google. They are widely available and can easily be purchased from Amazon, Best Buy, Walmart, or any other seller of electronics. The latest generation of the FIDO standard is FIDO2, and each authorized individual should obtain the key compliant with FIDO2 authentication standard. FIDO keys are typically inserted into a computer's USB port, so the authorized individual should obtain a FIDO key compatible with their computer (USB-A or USB-C) or a USB adapter, as necessary.

After BOEM has processed the bid deposits, the auction contractor will send an email to the authorized individuals, inviting them to practice logging into the auction website on a specific day in advance of the mock auction. The Login.gov login process, along with the authentication for the auction helpdesk, will also be tested during the mock auction.

If an eligible bidder fails to submit a bid deposit or does not participate in the first round of the auction, BOEM will deactivate that bidder's login information.

ii. Timing of Auction: The FSN will provide specific information regarding when bidders can enter the auction system and when the auction will start.

iii. Messaging Service: BOEM and the auction contractors will use the auction system's messaging service to keep bidders informed on issues of interest during the auction. For example, BOEM could change the schedule at any time, including during the auction. If BOEM changes the schedule during an auction, it will use the messaging feature to notify bidders that a revision has been made and will direct bidders to the relevant page. BOEM will also use the messaging system for other updates during the auction.

iv. Bidding Rounds: Bidders are allowed to place bids or to change their bids at any time during the bidding round. At the top of the bidding page, a countdown clock shows how much time remains in each round. Bidders will have until the end of the round to place bids. Bidders should do so according to the procedures described in the FSN and the Auction Procedures for Offshore Wind Lease Sales. Information about the round results will be made available only after the round has closed, so there is no strategic advantage to placing bids early or late in the round.

The Auction Procedures for Offshore Wind Lease Sales elaborates on the auction procedures described in this PSN. In the event of any inconsistency among the Auction Procedures for Offshore Wind Lease Sales, the Bidder Manual, and the FSN, the FSN is controlling.⁴

⁴ The Bidder Manual is provided to the auction participants in advance of the auction.

v. Alternate Bidding Procedures: Redundancy is the most effective way to mitigate technical and human issues during an auction. BOEM strongly recommends that bidders consider authorizing more than one individual to bid in the auction—and confirming during the mock auction that each individual is able to access the auction system. A mobile hotspot or other form of wireless access is helpful in case a company's main internet connection should fail. As a last resort, an authorized individual facing technical issues may request to submit its bid by telephone. In order to be authorized to place a telephone bid, an authorized individual must call the help desk number listed in the auction manual before the end of the round. BOEM will authenticate the caller's identity, including requiring the caller to provide a code from the software token. The caller must also explain the reasons why a telephone bid needs to be submitted. BOEM may, in its sole discretion, permit or refuse to accept a request for the placement of a bid using this alternate telephonic bidding procedure. The auction help desk requires codes from the Google Authenticator application (app) as part of its procedure for identifying individuals who call for assistance. Prior to the auction, all individuals listed on the BFF should download the Google Authenticator™ mobile app ⁵ onto their smartphone or tablet.⁶ The first time the individual logs into the auction system, the system will provide a QR token to be read into the Google Authenticator app. This token is unique to the individual and enables the Google Authenticator app to generate time-sensitive codes that will be recognized by the auction system. When an individual calls the auction help desk, the current code from the app must be provided to the help desk representative as part of the user authentication process. BOEM will provide information on this process on its website.

⁵ Google Authenticator must be installed from either the Apple App Store or the Google Play Store.

⁶ Installing the Google Authenticator app is required only if the app has not already been installed on the smartphone or tablet.

(4) 15 Percent Bidding Credit for Workforce Training or Supply Chain Development or a Combination of Both: This proposed bidding credit will allow a bidder to receive a credit of 15 percent in exchange for a commitment to make a qualifying monetary contribution (“Contribution”), in the same amount as the bidding credit received, to programs or initiatives that support workforce training programs for the U.S. floating offshore wind industry or development of a U.S. domestic supply chain for the floating offshore wind industry, or both, as described in the BFF addendum and the lease. To qualify for this credit, the bidder must commit to the bidding credit requirements on the BFF and submit a conceptual strategy as described in the BFF addendum.

i. As proposed, the Contribution to workforce training must result in a better trained and/or larger domestic floating offshore wind workforce that will provide for more efficient operations via increasing the supply of fully trained personnel. Training of existing lessee employees, lessee contractors, or employees of affiliated entities will not qualify as an appropriate contribution toward fulfilling this bidding credit commitment.

ii. The Contribution to domestic supply chain development must result in overall benefits to the U.S. floating offshore wind supply chain available to all potential purchasers of floating offshore wind services, components, or subassemblies, not solely the lessee's project; and either: (i) the demonstrable development of new domestic capacity (including vessels) or the demonstrable buildout of existing capacity; or (ii) an improved floating offshore wind domestic supply chain by reducing the upfront capital or certification cost for manufacturing floating offshore wind components, including the building of facilities, the purchasing of capital equipment, and the certifying of existing manufacturing facilities.

iii. Contributions cannot be used to satisfy private cost shares for any Federal tax or other incentive programs where cost sharing is a requirement. No portion of the Contribution may be used to meet the requirements of any other bidding credits for which the lessee qualifies.

iv. Bidders interested in obtaining a bidding credit could choose to contribute to workforce training programs, domestic supply chain initiatives, or a combination of both. The conceptual strategy must describe verifiable actions that the lessee will take that will allow BOEM to confirm compliance once the lessee has submitted documentation that shows it has satisfied the bidding credit commitment. The Contribution must be tendered in full, and the lessee must provide documentation evidencing it has made the Contribution and complied with applicable requirements, no later than the date the lessee submits its first Facility Design Report (FDR).

v. As proposed, Contributions to workforce training must promote and support one or more of the following purposes: (i) Union apprenticeships, labor management training partnerships, stipends for workforce training, or other technical training programs or institutions focused on providing skills necessary for the planning, design, construction, operation, maintenance, or decommissioning of floating offshore wind energy projects in the United States; (ii) Maritime training necessary for the crewing of vessels to be used for the construction, servicing, and/or decommissioning of wind energy projects in the United States; (iii) Training workers in skills or techniques necessary to manufacture or assemble floating offshore wind components, subcomponents, or subassemblies. Examples of areas involving these skills and techniques include welding, wind energy technology, hydraulic maintenance, braking systems, mechanical systems that include blade inspection and maintenance, or computers and programmable logic control systems; (iv) Tribal floating offshore wind workforce development programs or training for employees of an Indian Economic Enterprise ⁷ in skills necessary in the floating offshore wind industry; or (v) Training in any other job skills that the lessee can demonstrate are necessary for the planning, design, construction, operation, maintenance, or decommissioning of floating offshore wind energy projects in the United States.

⁷ https://www.bia.gov/sites/default/files/dup/assets/as-ia/ieed/Primer%20on%20Buy%20Indian%20Act%20508%20Compliant%202.6.18(Reload).pdf.

vi. As proposed, Contributions to domestic supply chain development must promote and support one or more of the following: (i) Development of a domestic supply chain for the floating offshore wind industry, including manufacturing of components and sub-assemblies and the expansion of related services; (ii) Domestic Tier 2 and Tier 3 floating offshore wind component suppliers and domestic Tier-1 supply chain efforts, including quay-side fabrication; ⁸ (iii) Technical assistance grants to help U.S. manufacturers re-tool or certify (e.g., ISO-9001) for floating offshore wind manufacturing; (iv) Development of Jones Act-compliant vessels for the construction, servicing, and/or decommissioning of wind energy projects in the United States; (v) Purchase and installation of lift cranes or other equipment capable of lifting or moving foundations, towers, and nacelles quayside, or lift cranes on vessels with these capabilities; (vi) Port infrastructure directly related to floating offshore wind component manufacturing or assembly of major floating offshore wind facility components; (vii) Establishing a new or existing bonding support reserve or revolving fund available to all businesses providing goods and services to offshore wind energy companies, including disadvantaged businesses and/or Indian Economic Enterprises; or (viii) Other supply chain development efforts that the lessee can demonstrate advance the manufacturing of floating offshore wind components or subassemblies or the provision of floating offshore wind services in the United States.

⁸ Tier-1 denotes the primary offshore wind components such as the blades, nacelles, towers, foundations, and cables. Tier 2 subassemblies are the systems that have a specific function for a Tier 1 component. Tier 3 subcomponents are commonly available items that are combined into Tier 2 subassemblies, such as motors, bolts, and gears.

vii. Documentation: If a lease is issued pursuant to a winning bid that includes a bidding credit for workforce training or supply chain development, the lessee must provide documentation showing that the lessee has met the financial commitment before the lessee submits the first FDR for the lease. The documentation must allow BOEM to objectively verify the amount of the Contribution and the beneficiary(ies) of the Contribution.

At a minimum, the documentation must include: all written agreements between the lessee and beneficiary(ies) of the Contribution, which must detail the amount of the Contribution(s) and how it will be used by the beneficiaries of the Contribution(s) to satisfy the goals of the bidding credit for which the Contribution was made; all receipts documenting the amount, date, financial institution, and the account and owner of the account to which the Contribution was made; and sworn statements by the entity that made the Contribution and the beneficiary(ies) of the Contribution attesting that all information provided in the above documentation is true and accurate. The documentation must describe how the funded initiative or program has advanced, or is expected to advance, U.S. floating offshore wind workforce training or supply chain development. The documentation must also provide qualitative and/or quantitative information that includes the estimated number of trainees or jobs supported, or the estimated leveraged supply chain investment resulting or expected to result from the Contribution. The documentation must contain any information called for in the conceptual strategy that the lessee submitted with its BFF and allow BOEM to objectively verify: (i) the amount of the Contribution and the beneficiary(ies) of the Contribution, and (ii) compliance with the bidding credit criteria provided in addendum “C” of the lease. If the lessee's implementation of its conceptual strategy changes due to market needs or other factors, the lessee must explain the changed approach. BOEM reserves all rights to determine that bidding credit criteria have not been satisfied if changes from the lessee's conceptual strategy result in the lessee not meeting the criteria for the bidding credit described in addendum “C” of the lease.

i. Enforcement: The commitment for the bidding credit must be made in the BFF and included in a lease addendum that will bind the lessee and all future assignees of the lease. If BOEM were to determine that a lessee or assignee had failed to satisfy the requirements of the bidding credit, or if a lessee were to relinquish or otherwise fail to develop the lease by the tenth anniversary date of lease issuance, the amount corresponding to the bidding credit awarded will be immediately due and payable to ONRR with interest from the lease Effective Date. The interest rate will be the underpayment interest rate identified by ONRR. The lessee would not be required to pay said amount if the lessee satisfied its bidding credit requirements but failed to develop the lease by the tenth Lease Anniversary. BOEM could, at its sole discretion, extend the documentation deadline beyond the first FDR submission or extend the lease development deadline beyond the 10-year timeframe.

(5) 5 percent Bidding Credit for Lease Area Use CBA: The second bidding credit proposed will allow a bidder to receive a credit of 5 percent of its bid in exchange for a commitment to contribute to an existing Lease Area Use CBA or a commitment to enter into a new Lease Area Use CBA with a community or stakeholder group whose use of the geographic space of the Lease Area, or whose use of resources harvested from that geographic space, is expected to be impacted by the lessee's potential offshore wind development. To qualify for the credit, the bidder must commit to the bidding credit requirements in the BFF and submit a conceptual strategy, as described in the BFF addendum.

(1) Bidders committing to use the Lease Area Use CBA bidding credit must submit their conceptual strategy, along with their BFF, as further described below and in the BFF addendum. The conceptual strategy must describe the actions that the lessee intends to take that will allow BOEM to verify compliance when the lessee seeks to demonstrate satisfaction of the requirements for the bidding credit. The lessee must provide documentation showing that the lessee has met the commitment and complied with the applicable bidding credit requirements before the lessee submits the lease's first FDR or before the tenth Lease Anniversary, whichever is sooner.

(2) Documentation: As proposed, if a lease is awarded pursuant to a winning bid that includes a Lease Area Use CBA bidding credit, the lessee must provide written documentation to BOEM demonstrating execution of the Lease Area Use CBA commitment no later than submission of the lessee's first FDR or before the tenth Lease Anniversary, whichever is sooner. The documentation must enable BOEM to objectively verify the Contribution has met all applicable requirements outlined in addendum “C” of the lease. At a minimum, this documentation must include:

a. All written agreements between the lessee and beneficiary(ies), including the executed Lease Area Use CBA;

b. A description of work done with impacted communities, including the monetary and non-monetary commitments that reflect the value of the bidding credit received; and

c. Sworn statements by the Lease Area Use CBA signatories or their assignees, attesting to the truth and accuracy of all the information provided in the above documentation.

The documentation must contain any information specified in the conceptual strategy that was submitted with the BFF. If the lessee's implementation of its conceptual strategy changes due to market needs or other factors, the lessee must explain this change. BOEM reserves the right to determine that the bidding credit has not been satisfied if changes from the lessee's conceptual strategy result in the lessee not meeting the criteria for the bidding credit described in addendum “C” of the lease.

(3) Enforcement: The commitment for the bidding credit will be made in the BFF and will be included in a lease addendum that will bind the lessee and all future assignees of the lease. If BOEM were to determine that a lessee or assignee had failed to satisfy the requirements of the bidding credit, or if a lessee were to relinquish or otherwise fail to develop the lease by the submission of the lessee's first FDR or by the tenth anniversary date of lease issuance, the amount corresponding to the bidding credit awarded will be immediately due and payable to ONRR with interest from the lease Effective Date. The interest rate will be the underpayment interest rate identified by ONRR. The lessee will not be required to pay said amount if the lessee satisfied its bidding credit requirements but failed to develop the lease by the tenth Lease Anniversary. BOEM could, at its sole discretion, extend the documentation deadline beyond the first FDR submission or extend the lease development deadline beyond the 10-year timeframe.

(6) 5 percent Bidding Credit for General CBA: The third bidding credit proposed would allow a bidder to receive a credit of 5 percent of its bid in exchange for a commitment to contribute to an existing General CBA or a commitment to enter into a new General CBA with a community or stakeholder group that is expected to be impacted by the lessee's potential floating offshore wind development. To qualify for the credit, the bidder must commit to the bidding credit requirements in the BFF and submit a conceptual strategy as described in the BFF addendum. Bidders committing to use the General CBA bidding credit must submit their conceptual strategy along with their BFF, further described below and in the BFF addendum. The conceptual strategy must describe the actions that the lessee intends to take that will allow BOEM to verify compliance when the lessee seeks to demonstrate satisfaction of the requirements for the bidding credit.

(1) Documentation: As proposed, if a lease is awarded pursuant to a winning bid that includes a General CBA bidding credit, the lessee must provide written documentation to BOEM demonstrating execution of the General CBA commitment no later than submission of the lessee's first FDR or before the tenth Lease Anniversary, whichever is sooner. The documentation must enable BOEM to objectively verify that the Contribution has met all applicable requirements outlined in addendum “C” of the lease. At a minimum, this documentation must include:

a. All written agreements between the lessee and beneficiary(ies), including the executed General CBA;

b. A description of work with impacted communities to reach monetary and non-monetary commitments that reflect the value of the bidding credit received;

c. Sworn statements by the Lease Area Use CBA signatories or their assignees, attesting to the truth and accuracy of all the information provided in the above documentation.

The documentation must contain any information specified in the conceptual strategy that was submitted with the BFF. If the lessee's implementation of its conceptual strategy changes due to market needs or other factors, the lessee will need to explain this change. BOEM reserves the right to determine that the bidding credit has not been satisfied if changes from the lessee's conceptual strategy result in the lessee not meeting the criteria for the bidding credit described in addendum “C” of the lease.

(2) Enforcement: The commitment for the bidding credit must be made in the BFF and will be included in a lease addendum that will bind the lessee and all future assignees of the lease. If BOEM were to determine that a lessee or assignee had failed to satisfy the requirements of the bidding credit, or if a lessee were to relinquish or otherwise fail to develop the lease by the tenth anniversary date of lease issuance, the amount corresponding to the bidding credit awarded will be immediately due and payable to ONRR with interest from the lease Effective Date. The interest rate would be the underpayment interest rate identified by ONRR. The lessee will not be required to pay said amount if the lessee satisfied its bidding credit requirements but failed to develop the lease by the tenth Lease Anniversary. BOEM could, at its sole discretion, extend the documentation deadline beyond the first FDR submission or extend the lease development deadline beyond the 10-year time.

XIII. Rejection or Non-Acceptance of Bids

BOEM reserves the right and authority to reject any and all bids that do not satisfy the requirements and rules of the auction, the FSN, or applicable regulations and statutes.

XIV. Anti-Competitive Review

Bidding behavior in this sale is subject to Federal antitrust laws. Following the auction, but before the acceptance of bids and the issuance of the lease, BOEM must “allow the Attorney General, in consultation with the Federal Trade Commission, thirty days to review the results of [the] lease sale.” 43 U.S.C. 1337(c)(1). If a provisional winner is found to have engaged in anti-competitive behavior in connection with this lease sale, BOEM may reject its provisionally winning bid. Compliance with BOEM's auction procedures and regulations is not an absolute defense against violations of antitrust laws.

Anti-competitive behavior determinations are fact specific. However, such behavior may manifest itself in several different ways, including, but not limited to:

a. An express or tacit agreement among bidders not to bid in an auction, or to bid a particular price;

b. An agreement among bidders not to bid against each other; or

c. Other agreements among bidders that have the potential to affect the final auction price.

Pursuant to 43 U.S.C. 1337(c)(3), BOEM may decline to award a lease if the Attorney General, in consultation with the Federal Trade Commission, determines that awarding the lease may be inconsistent with antitrust laws.

For more information on whether specific communications or agreements could constitute a violation of Federal antitrust law, please see https://www.justice.gov/atr and consult legal counsel.

XV. Process for Issuing the Lease

Once all post-auction reviews have been completed to BOEM's satisfaction, BOEM will issue three unsigned copies of the lease to the provisional winner. Within 10-business days after receiving the lease copies, the provisional winner must:

a. Execute and return the lease copies on the bidder's behalf;

b. File financial assurance, as required under 30 CFR 585.515-537; and

c. Pay by electronic funds transfer (EFT) the balance owed (the winning cash bid minus the applicable bid deposit). BOEM will require bidders to use EFT procedures (not https://www.pay.gov, the website bidders used to submit bid deposits) for payment of the balance, following the detailed instructions available on ONRR's website at: https://onrr.gov/paying/payment-options?tabs=renewable-energy,bid-deposit-options.

BOEM will not execute the lease until the three requirements above have been satisfied, BOEM has accepted the provisionally winning bidder's financial assurance pursuant to 30 CFR 585.515, and BOEM has processed the provisionally winning bidder's payment. BOEM may extend the 10-business-day deadline for signing a lease, filing the required financial assurance, and paying the balance owed if BOEM determines, in its sole discretion, that the provisionally winning bidder's inability to comply with the deadline was caused by events beyond the provisionally winning bidder's control pursuant to 30 CFR 585.224(e).

If the provisional winner does not meet these requirements or otherwise fails to comply with applicable regulations or the terms of the FSN, BOEM reserves the right to not issue the lease to that bidder. In such a case, the provisional winner will forfeit its bid deposit. Also, in such a case, BOEM reserves the right to offer the lease to the next highest eligible bidder as determined by BOEM.

Within 45-calendar days after receiving the lease copies, the provisional winner must pay the first year's rent using the “ONRR Renewable Energy Initial Rental Payments” form available at: https://www.pay.gov/public/form/start/27797604/.

Subsequent annual rent payments must be made following the detailed instructions available on ONRR's website at: https://onrr.gov/paying/payment-options?tabs=rent-payments.

XVI. Non-Procurement Debarment and Suspension Regulations

Pursuant to 43 CFR part 42, subpart C, an OCS renewable energy lessee must comply with the Department of the Interior's non-procurement debarment and suspension regulations at 2 CFR parts 180 and 1400. The lessee must also communicate this requirement to persons with whom the lessee does business relating to this lease by including this requirement as a term or condition in their contracts and other transactions.

XVII. Final Sale Notice

The development of the FSN will be informed through the EA, related consultations, and comments received during the PSN comment period. The FSN will provide the final details concerning the offering and issuance of an OCS commercial wind energy lease for the Lease Areas offshore Oregon. The FSN will be published in the Federal Register at least 30-calendar days before the lease sale is conducted and will provide the date and time of the auction.

XVIII. Changes to Auction Details

BOEM has the discretion to change any auction detail specified in the FSN, including the date and time, if events outside BOEM's control have been found to interfere with a fair and proper lease sale. Such events may include, but are not limited to, natural disasters (e.g., earthquakes, hurricanes, floods, and blizzards), wars, riots, acts of terrorism, fire, strikes, civil disorder, Federal Government shutdowns, cyberattacks against relevant information systems, or other events of a similar nature. In case of such events, BOEM will notify all qualified bidders via email, phone, and BOEM's website at: https://www.boem.gov/renewable-energy/state-activities/oregon. Bidders should call BOEM's Auction Manager at (703) 787-1121 if they have concerns.

XIX. Appeals

Reconsideration of rejected bid procedures are provided in BOEM's regulations at 30 CFR 585.118(c) and 585.225. BOEM's decision on a bid is the final action of the Department of the Interior, and is not subject to appeal to the Office of Hearings and Appeals, but an unsuccessful bidder may apply for reconsideration by the Director under 30 CFR 585.225 as follows:

a. If BOEM rejects your bid, BOEM will provide a written statement of the reasons and will refund any money deposited with your bid, without interest.

b. You may ask the BOEM Director for reconsideration, in writing, within 15-business days of bid rejection. The Director will send you a written response either affirming or reversing the rejection.

XX. Public Participation

BOEM will make all comments publicly available on https://www.regulations.gov under the docket number and will consider each comment prior to publication of the FSN. BOEM discourages anonymous comments; please include your name, address, and telephone number or email address as part of your comment. You should be aware that your entire comment, including your name, address, and any other personally identifiable information (PII) included in your comment, may be made publicly available at any time.

For BOEM to consider withholding from disclosure your PII, you must identify, in a cover letter, any information contained in the submittal of your comments that, if released, would constitute a clearly unwarranted invasion of your personal privacy. You must also briefly describe any possible harmful consequences of the disclosure of information, such as embarrassment, injury, or other harm.

Even if BOEM withholds your information in the context of this PSN, your comment is subject to the Freedom of Information Act (FOIA). If your submission is requested under FOIA, BOEM will withhold your information only if it determines that one of the FOIA's exemptions to disclosure applies. BOEM will make such a determination in accordance with the Department of the Interior's FOIA regulations and applicable law.

BOEM will make available for public inspection, in their entirety, all comments submitted by organizations and businesses, or by individuals identifying themselves as representatives of organizations or businesses.

XXI. Protection of Privileged and Confidential Information

BOEM will protect privileged and confidential information that you submit consistent with FOIA and 30 CFR 585.113. Exemption 4 of FOIA applies to “trade secrets and commercial or financial information obtained from a person” that are privileged or confidential. (5 U.S.C. 552(b)(4)). If you wish to protect the confidentiality of any information, clearly mark it “Contains Privileged or Confidential Information” and consider submitting such information as a separate attachment. BOEM will not disclose such information, except as required by FOIA. Information that is not labeled as privileged or confidential may be regarded by BOEM as suitable for public release. Further, BOEM will not treat as confidential aggregate summaries of otherwise non-confidential information.

Access to Information (54 U.S.C. 307103): BOEM may, after consultation with the Secretary of the Interior, withhold the location, character, or ownership of historic properties if it determines that disclosure may, among other things, cause a significant invasion of privacy, risk harm to the historic resources, or impede the use of a traditional religious site by practitioners. Tribes and other interested parties should designate such information that they wish to be withheld as confidential and provide the reasons why BOEM should do so.

Authority: 43 U.S.C. 1337(p); 30 CFR 585.211 and 585.216.

Elizabeth Klein,
Director, Bureau of Ocean Energy Management.

[FR Doc. 2024-09391 Filed 4-30-24; 8:45 am]

BILLING CODE 4340-98-P